DEPARTMENT OF ENERGY

Federal Energy Regulatory Commission

[Docket No. RP96-190-017]

Colorado Interstate Gas Company; Notice of Annual Revenue Report

February 13, 2002.

Take notice that on February 7, 2002, Colorado Interstate Gas Company (CIG) tendered for filing its final report detailing all negotiated rate revenues and interruptible storage revenue credits distributed for the period October 1, 2000 through September 30, 2001.

CIG states that copies of the filing has been served upon each person designated on the official service list compiled by the Commission's Secretary in this proceeding.

Any person desiring to protest said filing should file a protest with the Federal Energy Regulatory Commission, 888 First Street, NE, Washington, DC 20426, in accordance with section 385.211 of the Commission's Rules and Regulations. All such protests must be filed on or before February 20, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-4039 Filed 2-19-02; 8:45 am]

BILLING CODE 6717-01-P